Title 3—

The President

Proclamation 7725 of October 24, 2003

Protection from Pornography Week, 2003

By the President of the United States of America

A Proclamation

Pornography can have debilitating effects on communities, marriages, families, and children. During Protection From Pornography Week, we commit to take steps to confront the dangers of pornography.

The effects of pornography are particularly pernicious with respect to children. The recent enactment of the PROTECT Act of 2003 strengthens child pornography laws, establishes the Federal Government's role in the AMBER Alert System, increases punishment for Federal crimes against children, and authorizes judges to require extended supervision of sex offenders who are released from prison.

We have committed significant resources to the Department of Justice to intensify investigative and prosecutorial efforts to combat obscenity, child pornography, and child sexual exploitation on the Internet. We are vigorously prosecuting and severely punishing those who would harm our children. Last July, the Department of Homeland Security launched Operation Predator, an initiative to help identify child predators, rescue children depicted in child pornography, and prosecute those responsible for making and distributing child pornography.

Last year, I signed legislation creating the Dot Kids domain, a child-friendly zone on the Internet. The sites on this domain are monitored for content and safety, offering parents assurances that their children are learning in a healthy environment. Working together with law enforcement officials, parents, and other caregivers, we are making progress in protecting our children from pornography.

NOW, THEREFORE, I, GEORGE W. BUSH, President of the United States of America, by virtue of the authority vested in me by the Constitution and laws of the United States, do hereby proclaim October 26 through November 1, 2003, as Protection From Pornography Week. I call upon public officials, law enforcement officers, parents, and all the people of the United States to observe this week with appropriate programs and activities.

IN WITNESS WHEREOF, I have hereunto set my hand this twenty-fourth day of October, in the year of our Lord two thousand three, and of the Independence of the United States of America the two hundred and twenty-eighth.

B

[FR Doc. 03-27338

Filed 10-27-03; 11:24 am]

Billing code 3195-01-P